DEPARTMENT OF ENERGY

Federal Energy Regulatory Commission

Combined Notice of Filings #1

Take notice that the Commission received the following electric corporate filings:

Docket Numbers: EC17-97-000.

Applicants: HA Wind V LLC, Morgan Stanley Wind LLC.

Description: Application for Approval Under Section 203 of the Federal Power Act of Morgan Stanley Wind LLC, et al.

Filed Date: 3/22/17.

Accession Number: 20170322-5029.

Comments Due: 5 p.m. ET 4/12/17.

Take notice that the Commission received the following exempt wholesale generator filings:

Docket Numbers: EG17-82-000.

Applicants: PPA Grand Johanna LLC.

Description: Self-Certification of Exempt Wholesale Generator Status of PPA Grand Johanna LLC.

Filed Date: 3/21/17.

Accession Number: 20170321-5213.

Comments Due: 5 p.m. ET 4/11/17.

Take notice that the Commission received the following electric rate filings:

Docket Numbers: ER15-1456-003; ER11-4634-002; ER17-436-001; ER17-437-001; ER16-999-004; ER15-1457-003.

Applicants: Beaver Falls, L.L.C., Greenleaf Energy Unit 1 LLC, Hazleton Generation LLC, Marcus Hook Energy, L.P., Marcus Hook 50, L.P., Syracuse, L.L.C.

Description: Supplement to December 1, 2016 Notice of Change in Status of Beaver Falls, L.L.C., et. al.

Filed Date: 3/21/17.

Accession Number: 20170321-5230.

Comments Due: 5 p.m. ET 4/11/17.

Docket Numbers: ER17-862-001.

Applicants: Bethel Wind Farm LLC.

Description: Tariff Amendment: Additional Amendment of Bethel Wind Farm MBR Tariff to be effective 1/28/2017.

Filed Date: 3/21/17.

Accession Number: 20170321-5188.

Comments Due: 5 p.m. ET 4/11/17.

Docket Numbers: ER17-913-002.

Applicants: Consolidated Edison Company of New York, Inc.

Description: Tariff Amendment: Amendment #2 PASNY RY 1 filing to be effective 2/1/2017.

Filed Date: 3/22/17.

Accession Number: 20170322-5069.

Comments Due: 5 p.m. ET 4/12/17.

Docket Numbers: ER17-1285-000.

Applicants: Midcontinent Independent System Operator, Inc.

Description: § 205(d) Rate Filing: 2017-03-22 Reorganization of Attachment X Generator Interconnection Procedures to be effective 3/23/2017.

Filed Date: 3/22/17.

Accession Number: 20170322-5141.

Comments Due: 5 p.m. ET 4/12/17.

Docket Numbers: ER17-1286-000.

Applicants: PJM Interconnection, L.L.C.

Description: § 205(d) Rate Filing: Queue Position AB2-109, Original Service Agreement No. 4654 to be effective 12/31/9998.

Filed Date: 3/22/17.

Accession Number: 20170322-5144.

Comments Due: 5 p.m. ET 4/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2017.
Nathaniel J. Davis, Sr.,
Deputy Secretary.

[FR Doc. 2017-06158 Filed 3-28-17; 8:45 am]

BILLING CODE 6717-01-P